DEPARTMENT OF COMMERCE

National Oceanic and Atmospheric Administration

RIN 0648-XH074

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) of Puerto Rico, St. Thomas/St. John and St. Croix, USVI, will hold a one-day meeting in July for each of its panels to discuss the items contained in the agenda SUPPLEMENTARY INFORMATION.

DATES: The meetings will be held as follows:

• DAP/PR—July 30, 2019, from 10 a.m. to 5 p.m., at the Condado Palm Hotel, in Condado, P.R.

• DAP/STT/STJ—July 30, 2019, from 10 a.m. to 5 p.m., at the Windward Passage Hotel, St. Thomas, U.S.V.I.

• DAP/STX—July 31, 2019, from 10 a.m. to 5 p.m., at The Buccaneer Hotel, St. Croix, U.S.V.I.

ADDRESSES: • The meeting in Puerto Rico will be held at the Condado Palm Hotel, 55 Condado Avenue, San Juan, Puerto Rico.

• The meeting in St. Thomas will be held at the Windward Passage Hotel, Veterans Drive, Charlotte Amalie, St. Thomas, U.S.V.I.

• The meeting in St. Croix will be held at The Buccaneer Hotel, 5007 Estate Shoys, Christiansted, St. Croix, U.S.V.I.

FOR FURTHER INFORMATION CONTACT: Miguel A. Rolón, Caribbean Fishery Management Council, 270 Muñoz Rivera Avenue, Suite 401, San Juan, Puerto Rico 00918-1903, telephone: (787) 766-5926.

SUPPLEMENTARY INFORMATION: The agenda for the meeting is as follows:

—Call to Order

—Review and Finalize the Ecosystem Conceptual Models

—Other Business

The order of business may be adjusted as necessary to accommodate the completion of agenda items. Other than the start time, interested parties should be aware that discussions may start earlier or later than indicated. In addition, the meeting may be extended from, or completed prior to the date established in this notice

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Authority: 16 U.S.C. 1801 et seq.

Dated: June 25, 2019.
Tracey L. Thompson,
Acting Deputy Director, Office of Sustainable Fisheries, National Marine Fisheries Service.

[FR Doc. 2019-13896 Filed 6-27-19; 8:45 am]

BILLING CODE 3510-22-P